DEPARTMENT OF TRANSPORTATION

Office of the Secretary

[Docket OST-2005-20570]

Application of Tradewind Aviation, LLC for Commuter Authority

AGENCY: Department of Transportation.

ACTION: Notice of Order to Show Cause (Order 2005-5-10).

SUMMARY: The Department of Transportation is directing all interested persons to show cause why it should not issue an order finding Tradewind Aviation, LLC fit, willing, and able, and awarding it Commuter Air Carrier Authorization.

DATES: Persons wishing to file objections should do so no later than May 26, 2006

ADDRESSES: Objections and answers to objections should be filed in Docket OST-2005-20570 and addressed to U.S. Department of Transportation, Docket Operations, (M-30, Room PL-401), 400 Seventh Street, SW., Washington, DC 20590, and should be served upon the parties listed in Attachment A to the order.

FOR FURTHER INFORMATION CONTACT: Damon D. Walker, Air Carrier Fitness Division (X-56, Room 6401), U.S. Department of Transportation, 400 Seventh Street, SW., Washington, DC 20590, (202) 366-7785.

Dated: May 12, 2006.
Michael W. Reynolds,
Acting Assistant Secretary for Aviation and International Affairs.

[FR Doc. E6-7570 Filed 5-17-06; 8:45 am]

BILLING CODE 4910-9X-P